DEPARTMENT OF ENERGY

Proposed Subsequent Arrangement

AGENCY: Office of Nonproliferation and International Security, Department of Energy.

ACTION: Proposed subsequent arrangement.

SUMMARY: This notice is being issued under the authority of section 131a. of the Atomic Energy Act of 1954, as amended. The Department is providing notice of a proposed subsequent arrangement under Article X paragraph 3 of the Agreement for Cooperation Between the Government of the United States of America and the Government of the Republic of Korea Concerning Civil Uses of Atomic Energy and the Agreement for Cooperation Between the United States of America and the Argentine Republic Concerning Peaceful Uses of Nuclear Energy.

DATES: This subsequent arrangement will take effect no sooner than April 13, 2011.

FOR FURTHER INFORMATION CONTACT: Mr. Sean Oehlbert, Office of Nonproliferation and International Security, National Nuclear Security Administration, Department of Energy. Telephone: 202-586-3806 or e-mail: Sean.Oehlbert@nnsa.doe.gov.

SUPPLEMENTARY INFORMATION: This subsequent arrangement concerns the retransfer of 9.2 kilograms of U.S.-origin atomized depleted uranium-8wt. % molybdenum powder, 0.3 percent enrichment, from Korea Atomic Energy Research Institute (KAERI) in Daejeon, South Korea to Comisión Nacional de Energía Atómica (CNEA) in Buenos Aires, Argentina. The material, which is currently located at and prepared by KAERI, will be used for qualification testing of plate-type nuclear fuel as part of a Reduced Enrichment for Research and Test Reactors (RERTR) program by CNEA. The material was originally obtained by KAERI from Italy under contract number L615/0773.

In accordance with section 131a. of the Atomic Energy Act of 1954, as amended, it has been determined that this subsequent arrangement concerning the retransfer of nuclear material of United States origin will not be inimical to the common defense and security.

Dated: March 8, 2011.
For the Department of Energy.
Anne M. Harrington,
Deputy Administrator, Defense Nuclear Nonproliferation.

[FR Doc. 2011-7329 Filed 3-28-11; 8:45 am]

BILLING CODE 6450-01-P